DEPARTMENT OF LABOR

Office of Workers' Compensation Programs

[OMB Control No. 1240-0030]

Proposed Extension of Information Collection; Notice of Termination, Suspension, Reduction, or Increase in Benefit Payment

AGENCY: Office of Workers' Compensation Programs, Labor.

ACTION: Request for public comments.

SUMMARY: The Department of Labor, as part of its continuing effort to reduce paperwork and respondent burden, conducts a pre-clearance request for comment to provide the general public and Federal agencies with an opportunity to comment on proposed collections of information in accordance with the Paperwork Reduction Act of 1995. This request helps to ensure that: requested data can be provided in the desired format; reporting burden (time and financial resources) is minimized; collection instruments are clearly understood; and the impact of collection requirements on respondents can be properly assessed. Currently, the OWCP is soliciting comments on the information collection for the Notice of Termination, Suspension, Reduction, or Increase in Benefit Payment.

DATES: All comments must be received on or before August 4, 2025.

ADDRESSES: You may submit comment as follows. Please note that late, untimely filed comments will not be considered.

Electronic Submissions: Submit electronic comments in the following way:

• Federal eRulemaking Portal: https://www.regulations.gov. Follow the instructions for submitting comments for OWCP-2025-0008. Comments submitted electronically, including attachments, to https://www.regulations.gov will be posted to the docket, with no changes. Because your comment will be made public, you are responsible for ensuring that your comment does not include any confidential information that you or a third party may not wish to be posted, such as your or anyone else's Social Security number or confidential business information.

• If your comment includes confidential information that you do not wish to be made available to the public, submit the comment as a written/paper submission.

Written/Paper Submissions: Submit written/paper submissions in the following way:

• Mail/Hand Delivery: Mail or visit DOL-OWCP, Division of Coal Mine Workers' Compensation, 200 Constitution Avenue NW, Room C-3520, Washington, DC 20210.

• OWCP will post your comment as well as any attachments, except for information submitted and marked as confidential, in the docket at https://www.regulations.gov.

FOR FURTHER INFORMATION CONTACT: Anjanette Suggs, Office of Office of Workers' Compensation Programs, at (202) 354-9660 (phone) or suggs.anjanette@dol.gov (email).

SUPPLEMENTARY INFORMATION:

I. Background

The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

This ICR seeks approval under the PRA for an extension of an existing collection Notice of Termination, Suspension, Reduction or Increase in Benefit Payments (CM-908). The Office of Workers' Compensation Programs (OWCP) administers the Black Lung Benefits Act (BLBA), 30 U.S.C. 901 et seq. Coal mine operators, their representatives, or their insurers who have been identified as responsible for paying Black Lung benefits to an eligible miner or an eligible surviving dependent of the miner are called Responsible Operators (ROs). ROs that pay benefits are required to report any change in the benefit amount to the Department of Labor (DOL). The CM-908, when completed and sent to DOL, notifies DOL of the change in the beneficiary's benefit amount and the reason for the change. The BLBA and 20 CFR 725.621 necessitate this information collection.

II. Desired Focus of Comments

OWCP is soliciting comments concerning the proposed information collection related to the Notice of Termination, Suspension, Reduction, or Increase in Benefit Payment. OWCP is particularly interested in comments that:

• Evaluate whether the collection of information is necessary for the proper performance of the functions of the Agency, including whether the information has practical utility;

• Evaluate the accuracy of OWCP's estimate of the burden related to the information collection, including the validity of the methodology and assumptions used in the estimate;

• Suggest methods to enhance the quality, utility, and clarity of the information to be collected; and

• Minimize the burden of the information collection on those who are to respond, including through the use of appropriate automated, electronic, mechanical, or other technological collection techniques or other forms of information technology.

Documents related to this information collection request are available at https://regulations.gov and at DOL-OWCP located at 200 Constitution Avenue NW, Room C-3520 Washington, DC 20210. Questions about the information collection requirements may be directed to the person listed in the FOR FURTHER INFORMATION CONTACT section of this notice.

III. Current Actions

This information collection request concerns the Notice of Termination, Suspension, Reduction, or Increase in Benefit Payment. OWCP has updated the data with respect to the number of respondents, responses, burden hours, and burden costs supporting this information collection request from the previous information collection request.

Type of Review: Extension without change of a currently approved collection.

Agency: Office of Workers' Compensation Programs.

OMB Number: 1240-0030.

Affected Public: Individuals or households; Business or other for profit; Not-for-profit institutions.

Number of Respondents: 325.

Number of Responses: 6,607.

Annual Burden Hours: 1,321 hours.

Annual Respondent or Recordkeeper Cost: $3,607.

OWCP Forms: DCMWC Form, CM-908 Notice of Termination, Suspension, Reduction, or Increase in Benefit Payment.

Comments submitted in response to this notice will be summarized in the request for Office of Management and Budget approval of the proposed information collection request; they will become a matter of public record and will be available at https://www.reginfo.gov.

Anjanette C. Suggs,
Certifying Officer.

[FR Doc. 2025-10189 Filed 6-4-25; 8:45 am]

BILLING CODE 4510-CK-P